Proclamation 9457 of May 31, 2016

Lesbian, Gay, Bisexual, and Transgender Pride Month, 2016

By the President of the United States of America

A Proclamation

Since our founding, America has advanced on an unending path toward becoming a more perfect Union. This journey, led by forward-thinking individuals who have set their sights on reaching for a brighter tomorrow, has never been easy or smooth. The fight for dignity and equality for lesbian, gay, bisexual, and transgender (LGBT) people is reflected in the tireless dedication of advocates and allies who strive to forge a more inclusive society. They have spurred sweeping progress by changing hearts and minds and by demanding equal treatment—under our laws, from our courts, and in our politics. This month, we recognize all they have done to bring us to this point, and we recommit to bending the arc of our Nation toward justice.

Last year's landmark Supreme Court decision guaranteeing marriage equality in all 50 States was a historic victory for LGBT Americans, ensuring dignity for same-sex couples and greater equality across State lines. For every partnership that was not previously recognized under the law and for every American who was denied their basic civil rights, this monumental ruling instilled newfound hope, affirming the belief that we are all more free when we are treated as equals.

LGBT individuals deserve to know their country stands beside them. That is why my Administration is striving to better understand the needs of LGBT adults and to provide affordable, welcoming, and supportive housing to aging LGBT Americans. It is also why we oppose subjecting minors to the harmful practice of conversion therapy, and why we are continuing to promote equality and foster safe and supportive learning environments for all students. We remain committed to addressing health disparities in the LGBT community—gay and bisexual men and transgender women of color are at a particularly high risk for HIV, and we have worked to strengthen our National HIV/AIDS Strategy to reduce new infections, increase access to care, and improve health outcomes for people living with HIV.

Despite the extraordinary progress of the past few years, LGBT Americans still face discrimination simply for being who they are. I signed an Executive Order in 2014 that prohibits discrimination against Federal employees and contractors on the basis of sexual orientation or gender identity. I urge the Congress to enact legislation that builds upon the progress we have made, because no one should live in fear of losing their job simply because of who they are or who they love. And our commitment to combatting discrimination against the LGBT community does not stop at our borders: Advancing the fair treatment of all people has long been a cornerstone of American diplomacy, and we have made defending and promoting the human rights of LGBT individuals a priority in our engagement across the globe. In line with America's commitment to the notion that all people should be treated fairly and with respect, champions of this cause at home and abroad are upholding the simple truth that LGBT rights are human rights.

There remains much work to do to extend the promise of our country to every American, but because of the acts of courage of the millions who came out and spoke out to demand justice and of those who quietly toiled and pushed for progress, our Nation has made great strides in recognizing what these brave individuals long knew to be true in their hearts—that love is love and that no person should be judged by anything but the content of their character. During Lesbian, Gay, Bisexual, and Transgender Pride Month, as Americans wave their flags of pride high and march boldly forward in parades and demonstrations, let us celebrate how far we have come and reaffirm our steadfast belief in the equal dignity of all Americans.

NOW, THEREFORE, I, BARACK OBAMA, President of the United States of America, by virtue of the authority vested in me by the Constitution and the laws of the United States, do hereby proclaim June 2016 as Lesbian, Gay, Bisexual, and Transgender Pride Month. I call upon the people of the United States to eliminate prejudice everywhere it exists, and to celebrate the great diversity of the American people.

IN WITNESS WHEREOF, I have hereunto set my hand this thirty-first day of May, in the year of our Lord two thousand sixteen, and of the Independence of the United States of America the two hundred and fortieth.

[FR Doc. 2016-13361

Filed 6-2-16; 11:15 am]

Billing code 3295-F6-P